DEPARTMENT OF ENERGY

Federal Energy Regulatory Commission

[Docket No. CP00-102-000]

Transcontinental Gas Pipe Line Corporation; Notice of Request Under Blanket Authorization

March 6, 2000.

Take notice that on February 28, 2000, Transcontinental Gas Pipe Line Corporation (Transco), P.O. Box 1396, Houston, Texas 77251, tendered for filing in Docket No. CP00-102-000 a request pursuant to Sections 157.205 and 157.211 of the Commission's Regulations under the Natural Gas Act (18 CFR 157.205, 157.211) for authorization to construct and operate a delivery point for a new gas transportation customer, Visy Paper, Inc. (Visy Paper), a paper manufacturer, under Transco's blanket certificate issued in Docket No. CP82-426-000, pursuant to Section 7 of the Natural Gas Act, all as more fully set forth in the request that is on file with the Commission and open to public inspection.

Transco states that the delivery point will consist of two 4-inch tap valve assemblies, a meter station with one 3-inch orifice meter tube, 3-inch inlet and outlet meter station yard piping, electronic flow measurement equipment, and other appurtenant facilities. Transco states that the delivery point will be installed at or near milepost 1065.00 on Transco's mainline in Rockdale County, Georgia. Transco also states that Visy Paper will construct, or cause to be constructed, appurtenant facilities to enable it to receive gas from Transco at such point and move the gas to its existing paper plant. Transco states the new delivery point will be used by Visy Paper to receive up to 6,000 dekatherms per day (dt/d) of gas from Transco on a firm, capacity release or interruptible basis. Transco states that upon completion of the delivery point, Transco will commence transportation service to Visy Paper or its suppliers pursuant to Transco's Rate Schedules FT, FT-R or IT and Part 284(G) of the Commission's regulations. Transco states that the addition of the delivery point will have no significant impact on its peak day or annual deliveries, and is not prohibited by its FERC Gas Tariff. Transco has estimated the total costs of Transco's proposed facilities to be approximately $254,045. Transco states that Visy Paper will reimburse Transco for all costs associated with such facilities.

In addition, Transco states that Visy Paper's plant is currently served by Atlanta Gas Light Company's (AGL) system. Transco also states that gas is physically delivered to the plant by AGL's system, but Visy Paper purchases the gas from others. Transco states that Visy Paper has informed Transco that, for a variety of business reasons, Visy Paper wants to have gas supplied to its plant in the future by the Transco system.

Transco further states that it filed an application with the Commission on April 29, 1999 in Docket No. CP99-392-000 for its SouthCoast Expansion Project (SouthCoast Project), and that one of the customers on such project is Visy Paper, which will receive gas at this delivery point on a firm basis for 4,500 dt/d. Transco states that once the SouthCoast Project is in service, Visy Paper will be entitled to receive gas at this delivery point on a firm basis. Transco states that the SouthCoast Project is scheduled to go into service on November 1, 2000. Transco states that Visy Paper has represented to Transco that it is important for Visy Paper to begin receiving gas at this delivery point as soon as possible on a capacity release or interruptible basis. Transco states that Visy Paper has, therefore, requested Transco to file this prior notice application now so that it can begin receiving as at this delivery point as soon as possible.

Transco's contact person for this project is Toi Anderson, P.O. Box 1396, Houston, Texas 77251, (713) 215-4540.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act. This filing may be viewed on the web at http://www.ferc.fed.us/online/rims.htm (call 202-208-2222 for assistance).

David P. Boergers,
Secretary.

[FR Doc. 00-6063 Filed 3-10-00; 8:45 am]

BILLING CODE 6717-01-M